DEPARTMENT OF ENERGY

Federal Energy Regulatory Commission

[Docket Nos. CP04-223-000, CP04-293-000 and CP04-358-000]

KeySpan LNG, L.P., Algonquin Gas Transmission, L.L.C., Notice of Public Comment Meetings for the Proposed KeySpan LNG Facility Upgrade Project

December 10, 2004.

As referenced in the November 30, 2004 “Notice of Availability of the Draft Environmental Impact Statement for the Proposed KeySpan LNG Facility Upgrade Project,” the staff of the Federal Energy Regulatory Commission has prepared a draft Environmental Impact Statement (EIS) on the liquefied natural gas facility upgrade and natural gas pipeline facilities proposed by KeySpan LNG, L.P. and Algonquin Gas Transmission, L.L.C., respectively, in the above-referenced dockets (collectively referred to as the KeySpan LNG Facility Upgrade Project).

The November 30, 2004 notice provided instructions for filing written comments on the draft EIS. In addition to or in lieu of sending written comments, we invite you to attend the public comment meetings we will conduct in the project area. Representatives of the U.S. Army Corps of Engineers and the U.S. Coast Guard will participate in the meetings, and the U.S. Department of Transportation has also been invited to participate. Interested groups and individuals are encouraged to attend and present oral comments on the draft EIS. Transcripts of the meetings will be prepared. The locations and times of the public comment meetings are as follows:

Tuesday, January 11, 2005

Roger Williams Middle School, 278 Thurbers Avenue, Providence, Rhode Island (Auditorium), 6:45 p.m. (EST)

Wednesday, January 12, 2005

Gaudet Middle School, 1113 Aquidneck Avenue, Middletown, Rhode Island (Cafetorium; entrance off Turner Road), 6:45 p.m. (EST)

Magalie R. Salas,
Secretary.

[FR Doc. E4-3689 Filed 12-16-04; 8:45 am]

BILLING CODE 6717-01-P